DEPARTMENT OF TRANSPORTATION

Federal Aviation Administration

14 CFR Part 71

[Docket No. FAA-2005-20551; Airspace Docket No. 04-AWP-8]

RIN 2120-AA66

Revision of VOR Federal Airway 363; CA

AGENCY: Federal Aviation Administration (FAA), DOT.

ACTION: Final rule.

SUMMARY: This action revises VOR Federal Airway 363 (V-363) between the Mission Bay, CA, Very High Frequency Omnidirectional Range/Tactical Air Navigation (VORTAC) and the Pomona, CA, VORTAC. Specifically, the FAA is making this realignment to provide a southwestern route structure to circumnavigate the Camp Pendleton, CA, range complex.

DATES: Effective Date: 0901 UTC, February 14, 2008. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

Background

On March 14, 2005, the FAA published in the Federal Register a notice of proposed rulemaking (NPRM) to revise VOR Federal Airway V-363 between the Mission Bay, CA, and the Pomona, CA, VORTAC (70 FR 12428). On May 25, 2005, the FAA published in the Federal Register a correction to the NPRM due to an incomplete description (70 FR 30036). Interested parties were invited to participate in this rulemaking effort by submitting written comments on the proposal. Two comments were received.

The Aircraft Owners and Pilots Association stated the realignment of V-363 will provide an available route for circumnavigating the Camp Pendleton range complex by providing a more direct route that will have a positive impact on general aviation. One commentor disagreed with the revision to V-363, pointing out that the revised routing was incorrect and the proposal had not been presented to the Southern California Users Group (SCAUWG). A correction to the NPRM with revised routing was published on May 25, 2005, correcting the error in the V-363 description. The proposal had been presented to the SCAUWG and it was determined that the revised routing of V-363 would provide a more direct routing and assist general aviation pilots in the Southern California. With the exception of editorial changes, this amendment is the same as that published in the correction to the NPRM.

Domestic VOR Federal airways are published in paragraph 6010(a) of FAA Order 7400.9R dated August 15, 2007, and effective September 15, 2007, which is incorporated by reference in 14 CFR 71.1. The Federal airways listed in this document will be published subsequently in the Order.

The Rule

The FAA is amending Title 14 Code of Federal Regulations (14 CFR) part 71 to revise VOR Federal Airway 363 (V-363) between the Mission Bay, CA, Very High Frequency Omnidirectional Range/Tactical Air Navigation (VORTAC) and the Pomona, CA, VORTAC. Specifically, the FAA is making this realignment to provide a southwestern route structure to circumnavigate the Camp Pendleton, CA, range complex.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it revises VOR Federal Airway V-363 in California.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9R, Airspace Designations and Reporting Points, dated August 15, 2007, and effective September 15, 2007, is amended as follows:

Paragraph 6010(a) Domestic VOR Federal Airways.

* * * * *

V-363 [Revised]

From Mission Bay, CA; INT Mission Bay, CA, 341° and Santa Catalina, CA, 103° radials; to INT Santa Catalina, CA, 103° and Mission Bay, CA, 327° radials; to INT Mission Bay, CA, 327° and El Toro, CA, 172° radials; to El Toro, CA; to INT El Toro, CA, 339° and Pomona, CA, 179° radials; to Pomona, CA.

* * * * *

Issued in Washington, DC, October 31, 2007.
Paul Gallant,
Acting Manager, Airspace and Rules Group.

[FR Doc. E7-21825 Filed 11-7-07; 8:45 am]

BILLING CODE 4910-13-P